DEPARTMENT OF TRANSPORTATION

Federal Aviation Administration

14 CFR Part 71

[Docket No. FAA-2003-16747; Airspace Docket No. 03-ACE-91]

Modification of Class E Airspace; Iowa Falls, IA

Correction

In rule document 04-484 beginning on page 1662 in the issue of Monday, January 12, 2004 make the following correction:

On page 1663, in the first column under the heading Comments Invited, in the third line from the bottom of the paragraph, “Docket No. 03-ACE-19” should read “Docket No. 03-ACE-91”.

[FR Doc. C4-484 Filed 1-16-04; 8:45 am]

BILLING CODE 1505-01-D

DEPARTMENT OF TRANSPORTATION

Federal Aviation Administration

14 CFR Part 71

[Docket No. FAA-2003-16748; Airspace Docket No. 03-ACE-92]

Modification of Class E Airspace; Anthony, KS

Correction

In rule document 04-486 beginning on page 1664 in the issue of Monday, January 12, 2004 make the following correction:

§71.1 [Corrected]

On page 1665, in the third column, in §71.1, under the heading ACE KS E5 Anthony, KS, in the first line, “Anthony Municipal Airports, KS” should read “Anthony Municipal Airport, KS”.

[FR Doc. C4-486 Filed 1-16-04; 8:45 am]

BILLING CODE 1505-01-D